DEPARTMENT OF TRANSPORTATION

Federal Aviation Administration

Notice of Intent To Rule on Application To impose and Use a Passenger Facility Charge (PFC) at Monterey Peninsula Airport, Monterey, CA

AGENCY: Federal Aviation Administration (FAA), DOT.

ACTION: Notice of Intent to Rule on Application.

SUMMARY: The FAA proposes to rule and invites public comment on the application to impose and use a PFC at Monterey Peninsula Airport under the provisions of the Aviation Safety and Capacity Expansion Act of 1990 (Title IX of the Omnibus Budget Reconciliation Act of 1990) (Public Law 101-508) and Part 158 of the Federal Aviation Regulations (14 CFR Part 158).

DATES: Comments must be received on or before July 20, 2000.

ADDRESSES: Comments on this application may be mailed or delivered in triplicate to the FAA at the following address: Federal Aviation Administration, Airports Division, 15000 Aviation Blvd., Lawndale, CA 90261, or San Francisco Airports District Office, 831 Mitten Road, Room 210, Burlingame, CA 94010-1303. In addition, one copy of any comments submitted to the FAA must be mailed or delivered to Ms. Susan Kovalenko, Manager, Support Services, at the following address: 200 Fred Kane Drive, Suite 200, Monterey, CA 93940. Air carriers and foreign air carriers may submit copies of written comments previously provided to the Monterey Peninsula Airport District under section 158.23 of Part 158.

FOR FURTHER INFORMATION CONTACT: Marlys Vandervelde, Airports Program Analyst, San Francisco Airports District Office, 831 Mitten Road, Room 210, Burlingame, CA 94010-1303, Telephone: (650) 876-2806. The application may be reviewed in person at this same location.

SUPPLEMENTARY INFORMATION: The FAA proposes to rule and invites public comment on the application to impose and use the revenue from a PFC at Monterey Peninsula Airport under the provisions of the Aviation Safety and Capacity Expansion Act of 1990 (Title IX of the Omnibus Budget Reconciliation Act of 1990) (Public Law 101-508) and Part 158 of the Federal Aviation Regulations (14 CFR Part 158). On April 14, 2000, the FAA determined that the application to impose and use a PCF submitted by the Monterey Pensinula Airport District was not substantially complete within the requirements of section 158.25 of Part 158. On April 26, 2000, the Monterey Peninsula Airport District submitted supplemental information to complete this application. On April 28, 2000, the Monterey Peninsula Airport District withdrew the project to construct 28L Service Road. The FAA will approve or disapprove the application, in whole or in part, no later than August 24, 2000.

The following is a brief overview of the impose and use application No. 00-05-C-00-MRY:

Level of proposed PFC: $3.00.

Proposed charge effective date: October 1, 2000.

Proposed charge expiration date: December 1, 2000.

Total estimated PFC revenue: $85,875.

Brief description of the proposed projects: Blast Pad at Holding Area, Terminal Area Security Fence, Terminal Fire Detection and Alarm System, Joint Sealant Northside Portland Cement Concrete (PCC) Apron and Southside PCC Ramp, Southeast Perimeter Fence Extension, Slurry Seal Taxiways A & E, Phases 1 and 2, Environmental Studies for Runway 10L/28R Extension, Environmental Studies for Terminal Road/Parking Improvements, Pavement Management Program, and Electrical Service to North Ramp Area.

Class or classes of air carriers which the public agency has requested not be required to collect PFCs: Unscheduled/intermittent Part 135 air taxi/commercial operators.

Any person may inspect the application in person at the FAA office listed above under FOR FURTHER INFORMATION CONTACT and at the FAA Regional Airports Division located at: 15000 Aviation Blvd., Lawndale, CA 90261. In addition, any person may, upon request, inspect the application, notice and other documents germane to the application in person at the Monterey Peninsula Airport District.

Issued in Hawthorne, California, on May 30, 2000.
Herman C. Bliss,
Manager, Airports Division, Western-Pacific Region.

[FR Doc. 00-15536 Filed 6-19-00; 8:45 am]

BILLING CODE 4910-13-M